ENVIRONMENTAL PROTECTION AGENCY

[FRL-7232-8]

Agency Information Collection Activities: Proposed Collection; Comment Request; National Waste Minimization Partnership Program

AGENCY: Environmental Protection Agency (EPA).

ACTION: Notice.

SUMMARY: In compliance with the Paperwork Reduction Act (44 U.S.C. 3501 et seq.), this notice announces that EPA is planning to submit the following proposed Information Collection Request (ICR) to the Office of Management and Budget (OMB): National Waste Minimization Partnership Program, EPA ICR No. 2076.01. Before submitting the ICR to OMB for review and approval, EPA is soliciting comments on specific aspects of the proposed information collection as described below.

DATES: Comments must be submitted on or before August 20, 2002.

ADDRESSES: Commenters must send an original and two copies of their comments referencing docket number F-00-XXXX-FFFFF to: RCRA Docket Information Center, Office of Solid Waste (5305G), U.S. EPA, 401 M Street, SW, Washington, DC 20460. Hand deliveries of comments should be made to the Arlington, VA, address below. Comments may also be submitted electronically through the Internet to: rcradocket @epamail. epa.gov. Comments in electronic format should also be identified by the docket number F-00-XXXX-FFFFF. All electronic comments must be submitted as an ASCII file avoiding the use of special characters and any form of encryption.

Commenters should not submit electronically any confidential business information (CBI). An original and two copies of CBI must be submitted under separate cover to: RCRA CBI Document Control Officer, Office of Solid Waste (5305W), U.S. EPA, 401 M Street, SW, Washington, DC 20460.

Public comments and supporting materials are available for viewing in the RCRA Information Center (RIC), located at Crystal Gateway I, First Floor, 1235 Jefferson Davis Highway, Arlington, VA. The RIC is open from 9:00 a.m. to 4:00 p.m., Monday through Friday, excluding federal holidays. To review docket materials, it is recommended that the public make an appointment by calling (703) 603-9230. The public may copy a maximum of 100 pages from any regulatory docket at no charge. Additional copies cost $0.15/page. This notice and the supporting documents that detail the National Waste Minimization Partnership Program ICR are also available electronically. See the SUPPLEMENTARY INFORMATION section for information on accessing them.

FOR FURTHER INFORMATION CONTACT: For information on specific aspects of this information collection, contact Newman Smith, Office of Solid Waste (5302W), U.S. EPA, Ariel Rios Building, 1200 Pennsylvania Ave., NW., Washington, DC 20460, telephone: (703) 308-8757, e-mail: smith.newman@epa.gov.

SUPPLEMENTARY INFORMATION: Affected entities: Entities potentially affected by this action are those which generate, treat, and store hazardous waste.

Title: National Waste Minimization Partnership Program; EPA ICR No. 2076.01.

Abstract: EPA is establishing a national program to encourage the minimization of hazardous waste through source reduction and recycling. Participation in the National Waste Minimization Partnership Program is completely voluntary. EPA will use four forms to collect information from participants, called partners, which can be prepared and submitted by hard copy or electronically. Participation begins when an Enrollment Form is submitted and accepted by EPA. The form asks for basic site identification information as well as information on the company's waste minimization goals under the program.

Once in the program, partners will also have an opportunity to complete and submit an optional, one-time Application for Certificate of Past Accomplishments. This form enables partners to notify the Agency of waste minimization accomplished in the past. Partners also can submit a one-time Application for Certificate of Accomplishment when they accomplish the goals the established for their participation in the program. These certificates will enable the Agency to confirm a partners' progress and measure the overall success of the program. Certificates provide the basis for the Agency to recognize partner accomplishments in a formal (e.g., at an awards ceremony or by congratulatory letter) manner, if appropriate. Recognizing partner achievements is important to help EPA spur other partners on to reduce more waste.

Partners also may submit an optional, one-time Case Studies Submission Form. The form enables a partner to describe its waste minimization techniques, implementation problems, lessons learned, benefits, and relevant implications. The case studies will assist the Agency in better understanding waste minimization approaches and technologies. The information may also help the Agency in sharing lessons learned and effective strategies among the facilities generating hazardous waste, in order to promote continued and effective waste minimization efforts. Sharing effective waste reduction strategies with others is a fundamental objective of the partnership program.

Because the program is voluntary, EPA expects that companies would enroll only if their benefits under the program outweigh the costs. Although EPA expects partners to experience a minor burden under the paperwork requirements of the program, the Agency fully expects many companies to realize substantial cost savings (typically more than enough to offset their paperwork costs) through implementation of their waste reduction initiatives. (EPA evidence suggests that cost savings of hundreds of thousands, if not millions, of dollars is not unusual for a large corporation.)

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: EPA estimates the annual respondent burden for the National Waste Minimization Partnership Program to be 3,280 hours and $203,306. EPA expects that, in the first year, 60 companies will enroll, and 90 will enroll in each subsequent year. Thus, at the end of the first year, there will be 60 existing partners, 150 at the end of the second year, and 240 at the end of the third year. For purposes of the ICR's burden calculations, EPA has averaged the number of new and existing partners over the three-year period to conclude that there will be, on average, 80 new partners annually and 150 existing partners annually. The disaggregated burden per form is estimated below:

(1) Enrollment Form—EPA estimates that, on average, 80 new partners will fill out this form each year. EPA further estimates that ten percent of existing partners will notify EPA to modify their waste minimization goals each year (i.e., 10% × 150 = 15 partners per year). The total annual hourly burden for this form is estimated to be 2,723 hours. The total annual cost for this form is estimated to be $168,221.

(2) Application for Certificate of Past Accomplishments—EPA estimates that two-thirds of new partners will submit an application each year, or 54 partners per year. The total annual hourly burden for this form is estimated to be 109 hours. The total annual cost for this form is estimated to be $6,878.

(3) Application for Certificate of Accomplishment—EPA estimates that 80 percent of existing facilities will submit this one-time form, or 64 partners per year. The total annual hourly burden for this one-time form is estimated to be 128 hours. The total annual cost for this one-time form is estimated to be $8,152.

(4) Case Studies Submission Form—EPA expects that 50 percent of existing facilities will submit this one-time form, or 40 partners per year. The total annual hourly burden for this one-time form is estimated to be 320 hours. The total annual cost for this one-time form is estimated to be $20,055.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 23, 2002.
Elizabeth Cotsworth,
Director, Office of Solid Waste.

[FR Doc. 02-15725 Filed 6-20-02; 8:45 am]

BILLING CODE 6560-50-P